DEPARTMENT OF TRANSPORTATION

Federal Aviation Administration

14 CFR Part 39

[Docket No. FAA-2015-2435; Directorate Identifier 2015-CE-020-AD; Amendment 39-18197; AD 2015-13-10]

RIN 2120-AA64

Airworthiness Directives; M7 Aerospace LLC Airplanes

AGENCY: Federal Aviation Administration (FAA), DOT.

ACTION: Final rule; request for comments.

SUMMARY: We are superseding Airworthiness Directive (AD) 2011-17-07 for certain M7 Aerospace LLC (type certificate previously held by M7 Aerospace LP) Models SA226-T, SA226-T(B), SA226-TC, and SA226-AT airplanes. AD 2011-17-07 required repetitive replacement and inspection of certain elevator, rudder, aileron, and aileron-to-rudder interconnect primary control cables, and checking and setting of flight control cable tension. This AD requires repetitively inspecting and replacing the primary flight control rudder cables, repetitively replacing all other primary flight control and trim tab cables, and checking/setting the flight control cable tension. This AD was prompted by a report of extensive damage found on the left hand primary flight control rudder cable located under the cockpit floor on one of the airplanes affected by AD 2011-17-07. We are issuing this AD to correct the unsafe condition on these products.

DATES: This AD is effective July 21, 2015.

The Director of the Federal Register approved the incorporation by reference of a certain publication listed in this AD as of July 21, 2015.

The Director of the Federal Register approved the incorporation by reference of a certain other publication listed in this AD as of September 1, 2011 (76 FR 50881, August 17, 2011).

We must receive any comments on this AD by August 20, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact M7 Aerospace LLC, 10823 NE Entrance Road, San Antonio, Texas 78216; phone: (210) 824-9421; fax: (210) 804-7766; Internet: http://www.elbitsystems-us.com; email: MetroTech@M7Aerospace.com. You may review this referenced service information at the FAA, Small Airplane Directorate, 901 Locust, Kansas City, Missouri 64106. For information on the availability of this material at the FAA, call (816) 329-4148. It is also available on the Internet at http://www.regulations.gov by searching for and locating Docket No. FAA-2015-2435.

Examining the AD Docket

You may examine the AD docket on the Internet at http://www.regulations.gov by searching for and locating Docket No. FAA-2015-2435; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Andrew McAnaul, Aerospace Engineer, FAA, ASW-143 (c/o San Antonio MIDO), 10100 Reunion Place, Suite 650, San Antonio, Texas 78216; phone: (210) 308-3365; fax: (210) 308-3370; email: andrew.mcanaul@faa.gov.

SUPPLEMENTARY INFORMATION:

Discussion

On August 2, 2011, we issued AD 2011-17-07, Amendment 39-16771 (76 FR 50881, August 17, 2011), (“AD 2011-17-07”), for certain M7 Aerospace LLC (type certificate previously held by M7 Aerospace LP) Models SA226-T, SA226-T(B), SA226-TC, and SA226-AT airplanes. AD 2011-17-07 required repetitive replacement and inspection of certain elevator, rudder, aileron, and aileron-to-rudder interconnect primary control cables, and checking and setting of flight control cable tension. AD 2011-17-07 resulted from a report that the left-hand primary rudder control cable on a Model SA226-T airplane failed where the cable makes a 30 degree angle over a small pulley to accommodate re-routing of the control cable alongside the camera system installed in the center of the cabin.

We issued AD 2011-17-07 to prevent failure of a rudder, aileron and/or elevator control cable.

Actions Since AD 2011-17-07 Was Issued

Since we issued AD 2011-17-07, extensive damage to the left hand (LH) primary flight control rudder cable was found under the cockpit floor on one of the airplanes affected by AD 2011-17-07. Inspection of the cable revealed five of the seven wires that make up the LH cable were broken adjacent to the pulley at FS126.06. A follow-on inspection of the right hand (RH) primary flight control rudder cable also showed several strands of some of the 7 x 19 cable wires were broken at the same RH FS126.06 pulley location. Both cables had been replaced at 1,513 hours time-in-service (TIS) before the finding of the broken cables to comply with the 3,500-hour TIS replacement time required in AD 2011-17-07.

We are issuing this AD to correct the unsafe condition on these products.

Related Service Information Under 1 CFR Part 51

We reviewed M7 Aerospace SA226 Series Service Bulletin 226-27-072, issued June 27, 2011, and M7 Aerospace SA226 Series Service Letter 226-SL-050, issued April 15, 2015. The service information describes procedures for repetitively inspecting and replacing all elevator, rudder, aileron, and aileron-to-rudder interconnect primary control cables. This service information is reasonably available because the interested parties have access to it through their normal course of business or by the means identified in the ADDRESSES section of this AD.

FAA's Determination

We are issuing this AD because we evaluated all the relevant information and determined the unsafe condition described previously is likely to exist or develop in other products of the same type design.

AD Requirements

This AD retains the actions previously required in AD 2011-17-07 and adds new inspection and replacement requirements for the LH and RH primary flight control rudder cables.

Differences Between This AD and the Service Information

M7 Aerospace SA226 Series Service Bulletin 226-27-072, issued June 27, 2011, requires replacing the LH and the RH primary flight control rudder cables every 3,500 hours TIS. This AD requires inspecting the LH and the RH primary flight control rudder cables every 200 hours TIS and requires replacing the LH and the RH primary flight control rudder cables every 800 hours TIS.

FAA's Justification and Determination of the Effective Date

An unsafe condition exists that requires the immediate adoption of this AD. The FAA has found that the risk to the flying public justifies waiving notice and comment prior to adoption of this rule because there are no airplanes currently on the U.S. registry and thus, does not have any impact upon the public. Therefore, we find that notice and opportunity for prior public comment are unnecessary and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include Docket No. FAA-2015-2435 and Directorate Identifier 2015-CE-020-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

There are no affected airplanes currently on the U.S. registry. However, if an airplane affected by this AD were to become a U.S.-registered airplane, we estimate the following costs to comply with this AD:

Estimated Costs
Action | Labor cost | Parts cost | Cost per product | Cost on U.S. operators
Inspection of all elevator, rudder, aileron, and aileron-to-rudder interconnect primary control cables | 100 work-hours × $85 per hour = $8,500 | Not Applicable | $8,500 | None to date.
Replacement of all elevator, rudder, aileron, and aileron-to-rudder interconnect primary control cables | 180 work-hours × $85 per hour = $15,300 | $18,800 | 34,100 | None to date.
Check (set) flight control cable tension | 25 work-hours × $2,125 | Not Applicable | 2,125 | None to date.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, Part A, Subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-17-07, Amendment 39-16771 (76 FR 50881, August 17, 2011) and adding the following new AD:

2015-13-10 M7 Aerospace LLC (type certificate previously held by M7 Aerospace LP): Amendment 39-18197; Docket No. FAA-2015-2435; Directorate Identifier 2015-CE-020-AD.

(a) Effective Date

This AD is effective July 21, 2015.

(b) Affected ADs

(1) This AD supersedes AD 2011-17-07, Amendment 39-16771 (76 FR 50881, August 17, 2011) (“AD 2011-17-07”).

(2) AD 87-02-02, Amendment 39-5518 (52 FR 2511, January 23, 1987) relates to the subject of this AD.

(c) Applicability

This AD applies to the following M7 Aerospace LLC airplanes, certificated in any category, as identified in table 1 of paragraph (c) of this AD:

Table 1 of Paragraph (c) of This AD—Applicability
Model | Serial numbers
SA226-T | T265, T267
SA226-T(B) | T(B)348
SA226-TC | TC277
SA226-AT | AT071, AT072, AT073

(d) Subject

Joint Aircraft System Component (JASC)/Air Transport Association (ATA) of America Code 27, Flight Controls.

(e) Unsafe Condition

This AD was prompted by a report of extensive damage found to the left hand primary flight control rudder cable located under the cockpit floor on one of the airplanes affected by AD 2011-17-07. We are issuing this AD to prevent failure of a rudder, aileron and/or elevator control cable.

(f) Compliance

Unless already done, comply with paragraphs (g) through (k) of this AD. If the hours time-in-service (TIS) of the control cables cannot be positively determined by the logbook, then you must use hours TIS of the airplane to comply with the requirements of this AD.

(g) Primary Flight Control Rudder Cable Inspection

Within the next 10 hours TIS after July 21, 2015 (the effective date of this AD) or within the next 60 days after July 21, 2015 (the effective date of this AD), whichever occurs first, and repetitively thereafter at or before reaching 200 hours TIS from the last inspection or replacement, do a detailed visual inspection of the left hand (LH) and right hand (RH) primary flight control rudder cables under the floor between FS 116.56 and FS 138.56, with specific focus on the cable and the pulley at FS126.06. Do the inspection as stated in paragraph 4. ACTION of M7 Aerospace SA226 Series Service Letter 226-SL-050, issued April 15, 2015, following the procedures specified in paragraph 2. ACCOMPLISHMENT INSTRUCTIONS, section B., subparagraph (2) of M7 Aerospace SA226 Series Service Bulletin 226-27-072, issued June 27, 2011.

(h) Primary Flight Control Rudder Cable On-Condition Replacement

Before further flight after any inspection required in paragraph (g) of this AD, if any one of the conditions described in paragraph 2. ACCOMPLISHMENT INSTRUCTIONS, section B., subparagraphs (3)(a) through (3)(d) of M7 Aerospace SA226 Series Service Bulletin 226-27-072, issued June 27, 2011, is found, replace the affected primary flight control rudder cable or cables with a new cable. Do the replacements following paragraph 2. ACCOMPLISHMENT INSTRUCTIONS, sections C. through E., including all subparagraphs of M7 Aerospace Service Bulletin 226-27-072, issued June 27, 2011.

(i) Primary Flight Control Rudder Cable Mandatory Life Limit Replacement

Within the next 800 hours TIS after the last replacement or within the next 50 hours TIS after July 21, 2015 (the effective date of this AD), whichever occurs later, and repetitively thereafter every 800 hours TIS, replace the LH and RH primary flight control rudder cables with new cables. Do the replacements following paragraph 2. ACCOMPLISHMENT INSTRUCTIONS, sections C. through E., including all subparagraphs of M7 Aerospace SA226 Series Service Bulletin 226-27-072, issued June 27, 2011.

(j) Primary Flight Control and Trim Tab Cable (Other Than Rudder Cables) Mandatory Life Limit Replacement

(1) For cables with more than 6,000 hours TIS: Inspect cables for deficiencies within 10 hours TIS after September 1, 2011, (the effective date retained from AD 2011-17-07).

(2) If any deficiencies are found during the inspection required in paragraph (j)(1) of this AD, before further flight replace the cable(s).

(3) Replace all other primary control and trim tab cables (pilot and co-pilot aileron cables, rudder/aileron interconnect cables, aileron trim tab cables, rudder trim tab cables, and elevator cables) within the initial compliance times as listed in paragraphs (j)(3)(i) through (j)(3)(iii) below and repetitively thereafter at intervals not to exceed 3,500 hours TIS. Do the replacements following paragraph 2. ACCOMPLISHMENT INSTRUCTIONS, sections C. through E., including all subparagraphs of M7 Aerospace SA226 Series Service Bulletin 226-27-072, issued June 27, 2011.

(i) For cables with less than or equal to 3,500 hours TIS: replace cables when the control cables reach a total of 3,500 hours TIS or 150 hours TIS after September 1, 2011, (the effective date retained from AD 2011-17-07), whichever occurs later.

(ii) For cables with less than or equal to 5,000 hours TIS but greater than 3,500 hours TIS: replace cables within 150 hours TIS after September 1, 2011, (the effective date retained from AD 2011-17-07).

(iii) For cables with more than 5,000 hours TIS: replace cables within 50 hours TIS after September 1, 2011, (the effective date retained from AD 2011-17-07).

(k) Set Flight Control Cable Tension

Between 50 hours TIS and 200 hours TIS after installing any new control cable as required in paragraphs (g) through (j) of this AD, including all subparagraphs, check (set) flight control cable tension following paragraph 2. ACCOMPLISHMENT INSTRUCTIONS, sections C. through E. of M7 Aerospace SA226 Series Service Bulletin 226-27-072, issued June 27, 2011.

(l) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(m) Alternative Methods of Compliance (AMOCs)

(1) The Manager, Fort Worth Airplane Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (n) of this AD.

(2) Before using any approved AMOC, notify your appropriate principal inspector, or lacking a principal inspector, the manager of the local flight standards district office/certificate holding district office.

(3) AMOCs approved for AD 2011-17-07, Amendment 39-16771 (76 FR 50881, August 17, 2011) are not approved as AMOCs for the corresponding provisions of this AD.

(n) Related Information

For more information about this AD, contact Andrew McAnaul, Aerospace Engineer, FAA, ASW-143 (c/o San Antonio MIDO), 10100 Reunion Place, Suite 650, San Antonio, Texas 78216; phone: (210) 308-3365; fax: (210) 308-3370; email: andrew.mcanaul@faa.gov.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on July 21, 2015.

(i) M7 Aerospace SA226 Series Service Letter 226-SL-050, issued April 15, 2015.

(ii) Reserved.

(4) The following service information was approved for IBR on September 1, 2011 (76 FR 50881, August 17, 2011).

(i) M7 Aerospace SA226 Series Service Bulletin 226-27-072, issued June 27, 2011.

(ii) Reserved.

(5) For M7 Aerospace LLC service information identified in this AD, contact M7 Aerospace LLC, 10823 NE Entrance Road, San Antonio, Texas 78216; phone: (210) 824-9421; fax: (210) 804-7766; Internet: http://www.elbitsystems-us.com; email: MetroTech@M7Aerospace.com.

(6) You may view this service information at FAA, FAA, Small Airplane Directorate, 901 Locust, Kansas City, Missouri 64106. For information on the availability of this material at the FAA, call (816) 329-4148.

(7) You may view this service information that is incorporated by reference at the National Archives and Records Administration (NARA). For information on the availability of this material at NARA, call 202-741-6030, or go to: http://www.archives.gov/federal-register/cfr/ibr-locations.html.

Issued in Kansas City, Missouri, on June 25, 2015.
Earl Lawrence,
Manager, Small Airplane Directorate, Aircraft Certification Service.

[FR Doc. 2015-16171 Filed 7-2-15; 8:45 am]

BILLING CODE 4910-13-P